FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 7, 2019.

A. Federal Reserve Bank of Chicago (Colette A. Fried, Assistant Vice President) 230 South LaSalle Street, Chicago, Illinois 60690-1414:

1. Newport Trust Company, Minneapolis, Minnesota, as trustee of the Citizens State Bank of Loyal Stock Bonus Plan & Trust, Loyal, Wisconsin, along with Deanna Masephol, Loyal, Wisconsin, as Plan Administrator of the Citizens State Bank of Loyal Stock Bonus Plan & Trust, Loyal, Wisconsin; to acquire voting shares of Citizens Bancshares of Loyal, Inc., parent holding company of Citizens State Bank of Loyal, both of Loyal, Wisconsin.

B. Federal Reserve Bank of Kansas City (Dennis Denney, Assistant Vice President) 1 Memorial Drive, Kansas City, Missouri 64198-0001:

1. Parker C. McConachie, Wichita, Kansas, as trustee of the Parker C. McConachie Irrevocable Trust Dated 12/30/2012; to retain voting shares of Andover Financial Corporation, parent of Andover State Bank, both of Andover, Kansas; and to be approved as a member of the McConachie family group.

Board of Governors of the Federal Reserve System, September 12, 2019.
Yao-Chin Chao,
Assistant Secretary of the Board.

[FR Doc. 2019-20098 Filed 9-16-19; 8:45 am]

BILLING CODE P